ARCHITECTURAL AND TRANSPORTATION BARRIERS COMPLIANCE BOARD

36 CFR Parts 1193 and 1194

[Docket No. 2006-1]

Telecommunications Act Accessibility Guidelines; Electronic and Information Technology Accessibility Standards

AGENCY: Architectural and Transportation Barriers Compliance Board.

ACTION: Notice of establishment; appointment of members; date of first meeting.

SUMMARY: The Architectural and Transportation Barriers Compliance Board (Access Board) has decided to establish an advisory committee to assist it in revising and updating accessibility guidelines for telecommunications products and accessibility standards for electronic and information technology. The Telecommunications and Electronic and Information Technology Advisory Committee (Committee) includes organizations which represent the interests affected by these accessibility guidelines and standards. This notice also announces the time and place of the first Committee meeting, which will be open to the public.

DATES: The first meeting of the Committee is scheduled for September 27, 2006 through September 29, 2006 beginning at 1 p.m. on September 27, and 9 a.m. on the subsequent days. Decisions with respect to future meetings will be made at the first meeting and from time to time thereafter. Notices of future meetings will be published in the Federal Register.

ADDRESSES: The first meeting of the Committee will be held at the National Science Foundation, Room II-555, 4201 Wilson Boulevard, Arlington, VA.

FOR FURTHER INFORMATION CONTACT: Timothy Creagan, Office of Technical and Information Services, Architectural and Transportation Barriers Compliance Board, 1331 F Street, NW., suite 1000, Washington, DC 20004-1111. Telephone number (202) 272-0016 (Voice); (202) 272-0082 (TTY). Electronic mail address: creagan@access-board.gov.

SUPPLEMENTARY INFORMATION:

Background

On April 18, 2006, the Architectural and Transportation Barriers Compliance Board (Access Board) published a notice of intent to establish an advisory committee to provide recommendations for revisions and updates to accessibility guidelines for telecommunications products and accessibility standards for electronic and information technology (71 FR 19839; April 18, 2006). The notice identified the interests that are likely to be significantly affected by this rulemaking:

• Federal agencies;

• The telecommunications and electronic and information technology industry, including manufacturers;

• Organizations representing the access needs of individuals with disabilities;

• Representatives from other countries and international standards setting organizations; and

• Other organizations affected by these accessibility guidelines and standards.

For the reasons stated in the notice of intent, the Access Board has determined that establishing the Telecommunications and Electronic and Information Technology Advisory Committee (Committee) is necessary and in the public interest. The Access Board has appointed the following organizations as members to the Committee:

• Adobe Systems, Inc.

• American Association of People with Disabilities

• American Council of the Blind

• American Foundation for the Blind

• Apple Computer, Inc.

• Association of Assistive Technology Act Programs

• Assistive Technology Industry Association

• AT&T

• Avaya, Inc.

• Canon USA, Inc.

• Cingular Wireless

• Communication Service for the Deaf

• CTIA—The Wireless Association

• Dell, Inc.

• Easter Seals

• European Commission

• Hearing Loss Association of America

• Human Rights and Equal Opportunity Commission (Australia)

• IBM

• Inclusive Technologies

• Industry Canada

• Information Technology Association of America

• Information Technology Industry Council

• Microsoft Corporation

• National Association of State Chief Information Officers

• National Center on Disability and Access to Education

• National Federation of the Blind

• National Network of Disability and Business Technical Assistance Centers

• Panasonic Corporation of North America

• Paralyzed Veterans of America

• SRA International, Inc.

• Sun Microsystems, Inc.

• Telecommunications Industry Association

• The Paciello Group, LLP

• Trace Research and Development Center

• Usability Professionals' Association

• U.S. Department of Homeland Security

• U.S. Social Security Administration

• WGBH National Center for Accessible Media

• World Wide Web Consortium—Web Accessibility Initiative

The Access Board regrets being unable to accommodate all requests for membership on the Committee. In order to keep the Committee to a size that can be effective, it was necessary to limit membership. It is also desirable to have balance among members of the Committee representing different clusters of interest, such as disability organizations and the technology industry. The Committee membership identified above provides representation for each interest affected by the issues to be discussed.

Committee meetings will be open to the public and interested persons can attend the meetings and communicate their views. Members of the public will have an opportunity to address the Committee on issues of interest to them and the Committee. Members of groups or individuals who are not members of the Committee may also have the opportunity to participate with subcommittees of the Committee. The Access Board believes that participation of this kind can be very valuable for the advisory committee process. Additionally, all interested persons will have the opportunity to comment when proposed rules are issued in the Federal Register by the Access Board.

The meeting site is accessible to individuals with disabilities. Sign language interpreters and real-time captioning will be provided. Notices of future meetings will be published in the Federal Register. Due to security measures at the National Science Foundation, it is advisable that members of the public notify Timothy Creagan of their intent to attend the meeting (see Contact Information, above). This will ensure that a name badge is available at the National Science Foundation check-in desk to facilitate efficient building entry and will enable the Board to provide additional information about technology screening processes.

David L. Bibb,
Chairman, Architectural and Transportation Barriers Compliance Board.

[FR Doc. E6-10562 Filed 7-5-06; 8:45 am]

BILLING CODE 8150-01-P